SMALL BUSINESS ADMINISTRATION

Military Reservist Economic Injury Disaster Loans; Interest Rate for Second Quarter FY 2018

The Small Business Administration publishes an interest rate for Military Reservist Economic Injury Disaster Loans (13 CFR 123.512) on a quarterly basis. The rate will be 3.580 for loans approved on or after January 19, 2018.

James E. Rivera,
Associate Administrator for Disaster Assistance.

[FR Doc. 2018-01510 Filed 1-26-18; 8:45 am]

BILLING CODE 8025-01-P